DEPARTMENT OF HEALTH AND HUMAN SERVICES

Centers for Disease Control and Prevention

Interagency Committee on Smoking and Health (ICSH) Cessation Subcommittee: Meeting

In accordance with section 10(a)(2) of the Federal Advisory Committee Act (Pub. L. 92-463), the Centers for Disease Control and Prevention (CDC) announces the following Subcommittee Meeting.

Name: ICSH Cessation Subcommittee.

Date and Time: October 24, 2002, 8:30 a.m. to 2:15 p.m.

Place: Meeting location to be determined and announced in a separate notice prior to the meeting date. For additional information please contact Monica Swann at 202/205-8500.

Purpose: The ICSH Cessation Subcommittee is charged with making recommendations to ICSH on how best to promote tobacco use cessation. The Subcommittee will develop a report, to be submitted by ICSH to the Secretary, Health and Human Services, which contains action steps for both a Secretary's initiative and public-private partnerships to achieve this outcome. Background documents on ICSH and the ICSH Cessation Subcommittee are available at http://www.cdc.gov/tobacco/ICSH/index.htm.

Matter to be Discussed: The ICSH Cessation Subcommittee is convening a meeting and soliciting comments to obtain input from key audiences who must work in a coordinated manner to successfully promote tobacco use cessation. Input should be focused on (1) the opportunities to promote tobacco use cessation, (2) the strategies to overcome barriers and challenges faced by each group to ensure these objectives are implemented, and (3) the types of support DHHS could provide. Individuals and organizations are encouraged to comment in one or both of the following ways: (1) In writing, by submission through the mail or by e-mail; (2) in person, at the Subcommittee meeting. Written comments will also be accepted during the public meeting.

Agenda items are subject to change as priorities dictate.

Status: Open to the public, limited only by the space and time available.

SUPPLEMENTARY INFORMATION: If you would like to attend the Subcommittee meeting, you are encouraged to register by providing your name, title, organization name, address, and telephone number to Jessica Porras (address below). If you would like to speak at the meeting, please notify Jessica Porras when you register. Written comments may be submitted until December 20, 2002; comments received after October 24, 2002, will be shared at future subcommittee meetings. Submitted comments will be posted on the Internet at http://www.cdc.gov/tobacco/ICSH/index.htm.

To submit electronic comments, send via e-mail to jporras@cdc.gov. To submit comments by mail, send to: ICSH Cessation Subcommittee Public Comments (Attn: Ms. Jessica Porras), Office on Smoking and Health, 200 Independence Ave., SW., Room 317-B, Washington, DC 20201.

FOR FURTHER INFORMATION CONTACT: Ms. Jessica Porras, Office on Smoking and Health, 200 Independence Ave., Suite 317-B, Washington, DC 20201, 202-205-8500 (telephone) or (202) 205-8313 (facsimile) or jporras@cdc.gov (email).

The Director, Management Analysis and Services Office, has been delegated the authority to sign Federal Register Notices pertaining to announcements of meetings and other committee management activities, for both the Centers for Disease Control and Prevention and the Agency for Toxic Substances and Disease Registry.

Dated: October 2, 2002.
John Burckhardt,
Acting Director, Management Analysis and Services Office, Centers for Disease Control and Prevention.

[FR Doc. 02-25511 Filed 10-7-02; 8:45 am]

BILLING CODE 4163-18-P